LIBRARY OF CONGRESS

Copyright Royalty Board

[Docket Nos. 22-CRB-0005-CD (2021), 23-CRB-0008-CD (2022)]

Distribution of 2021 Cable Royalty Funds, Distribution of 2022 Cable Royalty Funds

AGENCY: Copyright Royalty Board, Library of Congress.

ACTION: Notice requesting comments.

SUMMARY: The Copyright Royalty Judges solicit comments on a motion of Multigroup Claimants for partial distribution of 2021 and 2022 cable royalty funds.

DATES: Comments are due on or before November 24, 2023.

ADDRESSES: Interested claimants must submit timely comments using eCRB, the Copyright Royalty Board's online electronic filing application, at https://app.crb.gov/.

Instructions: All submissions must include a reference to the CRB and docket numbers 22-CRB-0005-CD (2021) and 23-CRB-0008-CD (2022). All submissions will be posted without change to eCRB at https://app.crb.gov/ including any personal information provided.

Docket: For access to the docket to read submitted background documents or comments, go to eCRB, the Copyright Royalty Board's online electronic filing and case management system, at https://app.crb.gov/ and search for docket number 22-CRB-0005-CD (2021) or 23-CRB-0008-CD (2022).

FOR FURTHER INFORMATION CONTACT: Anita Brown, CRB Program Specialist, by telephone at (202) 707-7658 or email at crb@loc.gov.

SUPPLEMENTARY INFORMATION: Each year cable systems must submit royalty payments to the Register of Copyrights as required by the statutory license detailed in section 111 of the Copyright Act for the retransmission to cable subscribers of over-the-air television and radio broadcast signals. See 17 U.S.C. 111(d). The Copyright Royalty Judges (Judges) oversee distribution of royalties to copyright owners whose works were included in a qualifying transmission and who file a timely claim for royalties.

Allocation of the royalties collected occurs in one of two ways. In the first instance, the Judges may authorize distribution in accordance with a negotiated agreement among all claiming parties. 17 U.S.C. 111(d)(4)(A), 801(b)(3)(A). If all claimants do not reach agreement with respect to the royalties, the Judges must conduct a proceeding to determine the distribution of any royalties that remain in controversy. 17 U.S.C. 111(d)(4)(B), 801(b)(3)(B). Alternatively, the Judges may, on motion of claimants and on notice to all interested parties, authorize a partial distribution of royalties, reserving on deposit sufficient funds to resolve identified disputes. 17 U.S.C. 111(d)(4)(C), 801(b)(3)(C).

On October 11, 2023, Worldwide Subsidy Group LLC dba Multigroup Claimants (MGC) filed with the Judges a motion pursuant to section 801(b)(3)(C) of the Copyright Act requesting a partial distribution amounting to $901,128 of the 2021 cable royalty funds on deposit and $886,744 of the 2022 cable royalty funds on deposit. That statutory section requires that, before ruling on the motion, the Judges publish a notice in the Federal Register seeking responses to the motion for partial distribution to ascertain whether any claimant entitled to receive the subject royalties has a reasonable objection to the requested distribution. 17 U.S.C. 801(b)(3)(C).

Accordingly, this notice seeks comments from interested claimants on whether any reasonable objection exists that would preclude the distribution of the requested amounts of the 2021 and 2022 cable royalty funds to MGC. Parties objecting to the proposed partial distribution must advise the Judges of the existence and extent of all objections by the end of the comment period. The Judges will not consider any objections with respect to the partial distribution that come to their attention after the close of the comment period.

Members of the public may read the motion by accessing the Copyright Royalty Board's electronic filing and case management system at https://app.crb.gov and searching for docket number 22-CRB-0005-CD (2021) or 23-CRB-0008-CD (2022).

Dated: October 19, 2023.
David P. Shaw,
Chief Copyright Royalty Judge.

[FR Doc. 2023-23523 Filed 10-24-23; 8:45 am]

BILLING CODE 1410-72-P